FEDERAL ELECTION COMMISSION

[Notice 2008-6]

Filing Dates for the Mississippi Special Election In the 1st Congressional District

AGENCY: Federal Election Commission.

ACTION: Notice of filing dates for special election.

SUMMARY: Mississippi has scheduled a Special General Election on April 22, 2008, to fill the U.S. House of Representatives seat in the First Congressional District formerly held by Senator Roger Wicker. Under Mississippi law, a majority winner in a nonpartisan special election is declared elected. Should no candidate achieve a majority vote, a Special Runoff Election will be held on May 13, 2008, between the top two vote-getters in the Special General Election.

Committees participating in the Mississippi special elections are required to file pre- and post-election reports. Filing dates for these reports are affected by whether one or two elections are held.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the Mississippi Special General and Special Runoff Elections shall file a 12-day Pre-General Report on April 10, 2008; a Pre-Runoff Report on May 1, 2008; and a Post-Runoff Report on June 12, 2008. (See chart below for the closing date for each report.)

If only one election is held, all principal campaign committees of candidates in the Special General Election shall file a 12-day Pre-General Report on April 10, 2008; and a Post-General Report on May 22, 2008. (See chart below for the closing date for each report.)

Unauthorized Committees (PACs and Party Committees)

Political committees filing on a quarterly basis in 2008 are subject to special election reporting if they make previously undisclosed contributions or expenditures in connection with the Mississippi Special General or Special Runoff Election by the close of books for the applicable report(s). (See chart below for the closing date for each report.)

Committees filing monthly that support candidates in the Mississippi Special General or Special Runoff Election should continue to file according to the monthly reporting schedule.

Additional disclosure information in connection with the Mississippi Special Election may be found on the FEC Web site at http://www.fec.gov/info/report_dates.shtml.

Calendar of Reporting Dates for Mississippi Special Election
Report | Close of books¹ | Reg./Cert. & overnight mailing deadline | Filing deadline
If only the special general is held (04/22/08), committees involved must file:
April Quarterly | —Waived—
Pre-General | 04/02/08 | 04/07/08 | 04/10/08
Post-General | 05/12/08 | 05/22/08 | 05/22/08
July Quarterly | 06/30/08 | 07/15/08 | 07/15/08
If two elections are held, committees involved only in the special general (04/22/08) must file:
April Quarterly | —Waived—
Pre-General | 04/02/08 | 04/07/08 | 04/10/08
July Quarterly | 06/30/08 | 07/15/08 | 07/15/08
Committees involved in the special general (04/22/08) and special runoff (05/13/08) must file:
April Quarterly | —Waived—
Pre-General | 04/02/08 | 04/07/08 | 04/10/08
Pre-Runoff | 04/23/08 | 04/28/08 | 05/01/08
Post-Runoff | 06/02/08 | 06/12/08 | 06/12/08
July Quarterly | 06/30/08 | 07/15/08 | 07/15/08
Committees involved only in the special runoff (05/13/08) must file:
Pre-Runoff | 04/23/08 | 04/28/08 | 05/01/08
Post-Runoff | 06/02/08 | 06/12/08 | 06/12/08
July Quarterly | 06/30/08 | 07/15/08 | 07/15/08
¹ The reporting period always begins the day after the closing date of the last report filed. If the committee is new and has not previously filed a report, the first report must cover all activity that occurred before the committee registered up through the close of books for the first report due.

Dated: February 28, 2008.
David M. Mason,
Chairman, Federal Election Commission.

[FR Doc. E8-4184 Filed 3-4-08; 8:45 am]

BILLING CODE 6715-01-P